FARM CREDIT ADMINISTRATION

12 CFR Parts 611, 612, 614, 615, and 620

RIN 3052-AC21

Organization; Standards of Conduct and Referral of Known or Suspected Criminal Violations; Loan Policies and Operations; Funding and Fiscal Affairs, Loan Policies and Operations, and Funding Operations; Disclosure to Shareholders; Preferred Stock; Effective Date

AGENCY: Farm Credit Administration.

ACTION: Announcement of effective date.

SUMMARY: The Farm Credit Administration (FCA) published a final rule under parts 611, 612, 614, 615, and 620 on September 13, 2005 (70 FR 53901). This final rule amended our regulations governing preferred stock issued by Farm Credit System (System) banks, associations, and service corporations and became effective on November 3, 2005 (70 FR 67901). However, we delayed the effective date of §§ 612.2165(b)(12)-(15), 615.5245(a), and 615.5270(d) for 6 months from the effective date of the final rule in order to allow System institutions with existing preferred stock programs to adopt the policies and procedures necessary to comply with the rule. This document announces the effective date of those portions of the rule.

DATES: Effective Date: The effective date for §§ 612.2165(b)(12)-(15), 615.5245(a), and 615.5270(d) is May 3, 2006.

FOR FURTHER INFORMATION CONTACT:

Laurie A. Rea, Associate Director, Office of Regulatory Policy, Farm Credit Administration, McLean, VA 22102-5090, (703) 883-4498, TTY (703) 883-4434; or

Howard Rubin, Senior Attorney, Office of General Counsel, Farm Credit Administration, McLean, VA 22102-5090, (703) 883-4020, TTY (703) 883-4020.

Authority: 12 U.S.C. 2252(a)(9) and (10).

Dated: April 27, 2006.
Roland E. Smith,
Secretary, Farm Credit Administration Board.

[FR Doc. 06-4175 Filed 5-2-06; 8:45 am]

BILLING CODE 6705-01-P